DEPARTMENT OF ENERGY

Basic Energy Sciences Advisory Committee

AGENCY: Office of Science, Department of Energy.

ACTION: Notice of renewal.

SUMMARY: Pursuant to the Federal Advisory Committee Act, App. 2, and the Code of Federal Regulations, and following consultation with the Committee Management Secretariat, General Services Administration, notice is hereby given that the Basic Energy Sciences Advisory Committee's (BESAC) charter will be renewed for a two-year period.

The Committee will provide advice and recommendations to the Office of Science on the Basic Energy Sciences program.

Additionally, the renewal of the BESAC has been determined to be essential to conduct business of the Department of Energy and to be in the public interest in connection with the performance of duties imposed upon the Department of Energy, by law and agreement. The Committee will continue to operate in accordance with the provisions of the Federal Advisory Committee Act, and the rules and regulations in implementation of that Act.

FOR FURTHER INFORMATION CONTACT: Dr. Harriet Kung at (301) 903-3081.

Issued in Washington, DC, on July 28, 2017.
Shena Kennerly,
Acting Committee Management Officer.

[FR Doc. 2017-21332 Filed 10-3-17; 8:45 am]

BILLING CODE 6450-01-P